DEPARTMENT OF ENERGY

Federal Energy Regulatory Commission

[Docket No. CP10-46-000]

Equitrans, L.P.; Notice of Request Under Blanket Authorization

February 1, 2010.

Take notice that on January 25, 2010, Equitrans, L.P. (Equitrans), 625 Liberty Avenue, Pittsburgh, Pennsylvania 15222, filed in Docket No. CP10-46-000, a prior notice request pursuant to sections 157.205, 157.208 and 157.210 of the Commission's regulations under the Natural Gas Act (NGA) for authority to modify and replace segments of its mainline system at fifty-three locations in Greene County, Pennsylvania; and Doddridge, Harrison, Lewis, Marion, Monongalia, and Wetzel Counties, West Virginia and to make certain modifications to compressor engines at its Pratt Compressor Station in Greene County, all as more fully set forth in the application, which is on file with the Commission and open to public inspection. The filing may also be viewed on the Web at http://www.ferc.gov using the “eLibrary” link. Enter the docket number excluding the last three digits in the docket number field to access the document. For assistance, contact FERC at FERCOnlineSupport@ferc.gov or call toll-free, (866) 208-3676 or TTY, (202) 502-8659.

Specifically, Equitrans proposes to modify and uprate its compressor units at the Pratt Compressor Station and to upgrade and increase the capacity of its upstream facilities that deliver into the Pratt Compressor Station. Equitrans states that the central purpose of this proposal is to meet market demand for an additional 92,000 dekatherms (Dth) per day of firm, off-system delivery capacity through the Pratt Compressor Station into downstream, interstate transmission systems operated by Texas Eastern Transmission LP (Texas Eastern), Dominion Transmission, Inc. (DTI), and Columbia Gas Transmission (Columbia). Equitrans asserts that the proposed upgrade and expansion of the subject facilities will create an additional 77,300 Dth per day of potential firm capacity. Additionally, Equitrans proposes to test, replace and/or modify certain segments of its pipeline system to increase the maximum allowable operating pressure (MAOP) of its Low Pressure West System (LPW System) originating at the West Union Station to 605 pounds per square inch gauge (psig) and the MAOP of the Low Pressure East System (LPE System) originating at the Copley Station to 655 psig. Equitrans states that the modifications to the LPW System will provide an additional 51,200 Dth per day of potential capacity and the modifications to the LPE System will provide an additional 26,100 Dth per day of potential capacity. Equitrans states that the estimated cost of the subject facilities is approximately $9,710,241.

Any questions regarding the application should be directed to Joseph M. Dawley, Counsel, Equitrans, L.P., 625 Liberty Avenue, Pittsburgh, Pennsylvania 15222, at (412) 553-7708 or (412) 553-7781 (facsimile).

Any person may, within 60 days after the issuance of the instant notice by the Commission, file pursuant to Rule 214 of the Commission's Procedural Rules (18 CFR 385.214) a motion to intervene or notice of intervention. Any person filing to intervene or the Commission's staff may, pursuant to section 157.205 of the Commission's Regulations under the NGA (18 CFR 157.205) file a protest to the request. If no protest is filed within the time allowed therefore, the proposed activity shall be deemed to be authorized effective the day after the time allowed for protest. If a protest is filed and not withdrawn within 30 days after the time allowed for filing a protest, the instant request shall be treated as an application for authorization pursuant to section 7 of the NGA.

The Commission strongly encourages electronic filings of comments, protests, and interventions via the Internet in lieu of paper. See 18 CFR 385.2001(a)(1)(iii) and the instructions on the Commission's Web site (http://www.ferc.gov) under the “e-Filing” link.

Kimberly D. Bose,
Secretary.

[FR Doc. 2010-2628 Filed 2-5-10; 8:45 am]

BILLING CODE 6717-01-P